FEDERAL MARITIME COMMISSION

Security for the Protection of the Public Indemnification of Passengers for Nonperformance of Transportation; Notice of Issuance of Certificate (Performance)

Notice is hereby given that the following have been issued a Certificate of Financial Responsibility for Indemnification of Passengers for Nonperformance of Transportation pursuant to the provisions of section 3, Public Law 89-777 (46 U.S.C. 817 (e)) and the Federal Maritime Commission's implementing regulations at 46 CFR Part 540, as amended:

American Classic Voyages Company

1380 Port of New Orleans Place

New Orleans, LA 70130-1890

Vessels: CAPE COD LIGHT and CAPE MAY LIGHT

Carnival Corporation (d/b/a Carnival and Carnival Cruise Lines)

3655 N.W. 87th Avenue

Miami, FL 33178-2193

Vessels: CARNIVAL CONQUEST, CARNIVAL DESTINY, CARNIVAL LEGEND, CARNIVAL PRIDE, CARNIVAL SPIRIT, CARNIVAL TRIUMPH, CARNIVAL VICTORY, CELEBRATION, ECSTASY, ELATION, FANTASY, FASCINATION, HOLIDAY, IMAGINATION, INSPIRATION, JUBILEE, PARADISE, SENSATION and TROPICALE

Celebrity Cruises, Inc. (d/b/a Celebrity Cruises)

1050 Caribbean Way

Miami, FL 33132

Vessels: INFINITY and SUMMIT

Clipper Cruise Line, Inc.

7711 Bonhomme Avenue

St. Louis, MO 63105-1961

Vessel: CLIPPER ODYSSEY

Costa Cruise Lines N.V. and Costa Crociere S.p.A.

World Trade Center

80 S.W. 8th Street

Miami, FL 33130-3097

Vessels: COSTA ALLEGRA, COSTA CLASSICA, COSTA MARINA, COSTA RIVIERA, COSTA ROMANTICA and COSTA VICTORIA

Hapag-Lloyd Kreuzfahrten GmbH

Ballindamm 25

D-20079 Hamburg Germany

Vessel: BREMEN

Holland America Line-Westours Inc. (d/b/a Holland America Line), Holland America Line N.V. and HAL Antillen N.V.

300 Elliott Avenue West

Seattle, WA 98119

Vessel: AMSTERDAM

Norwegian Cruise Line Limited (d/b/a Norwegian Cruise Line)

7665 Corporate Center Drive

Miami, FL 33126

Vessels: NORWEGIAN LEO, NORWEGIAN STAR and NORWEGIAN SUN

P & O Princess Cruises International Limited and Princess Cruise Lines, Ltd.

Richmond House, Terminus Terrace

Southampton S014 3PN

United Kingdom

Vessel: ARCADIA, AURORA, ORIANA and VICTORIA

Princess Cruise Lines, Ltd., Princess Cruises Ltd. and P & O Princess Cruises plc

24305 Town Center Drive

Santa Clarita, CA 91355

Vessels: CROWN PRINCESS, DAWN PRINCESS, GOLDEN PRINCESS, GRAND PRINCESS, OCEAN PRINCESS, REGAL PRINCESS, SEA PRINCESS, STAR PRINCESS and SUN PRINCESS

Princess Cruise Lines, Ltd., Princess Cruises Ltd., P & O Lines (Shipowners) Ltd. and P & O Princess Cruises plc

24305 Town Center Drive

Santa Clarita, CA 91355

Vessels: PACIFIC PRINCESS and ROYAL PRINCESS

Royal Caribbean Cruises Ltd. (d/b/a Royal Caribbean International)

1050 Caribbean Way

Miami, FL 33132-2096

Vessel: RADIANCE OF THE SEAS

Royal Olympic Cruises Ltd.

805 3rd Avenue, 18th Floor

New York, NY 10022

Vessel: OLYMPIC VOYAGER

Silversea Cruises, Ltd. and Silversea New Build One Ltd.

110 East Broward Blvd.

Fort Lauderdale, FL 33301

Vessel: SILVER SHADOW

Dated: March 23, 2001.
Bryant L. VanBrakle,
Secretary.

[FR Doc. 01-7685 Filed 3-28-01; 8:45 am]

BILLING CODE 6730-01-P